SECURITIES AND EXCHANGE COMMISSION

[File No. 500-1]

In the Matter of Ameriwest Energy Corp., Clyvia, Inc., and Crown Oil & Gas, Inc.; Order of Suspension of Trading

August 10, 2012.

It appears to the Securities and Exchange Commission that there is a lack of current and accurate information concerning the securities of Ameriwest Energy Corp. because it has not filed any periodic reports since the period ended December 31, 2008.

It appears to the Securities and Exchange Commission that there is a lack of current and accurate information concerning the securities of Clyvia, Inc. because it has not filed any periodic reports since the period ended October 31, 2008.

It appears to the Securities and Exchange Commission that there is a lack of current and accurate information concerning the securities of Crown Oil & Gas, Inc. because it has not filed any periodic reports since the period ended March 31, 2009.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on August 10, 2012, through 11:59 p.m. EDT on August 23, 2012.

By the Commission.
Jill M. Peterson,
Assistant Secretary.

[FR Doc. 2012-20009 Filed 8-10-12; 11:15 am]

BILLING CODE 8011-01-P